DEPARTMENT OF TRANSPORTATION

[Docket No. OST-2007-27407]

National Surface Transportation Infrastructure Financing Commission

AGENCY: Department of Transportation (DOT).

ACTION: Notice of meeting location and time.

SUMMARY: This notice lists the location and time of the fourth, fifth and sixth meetings of the National Surface Transportation Infrastructure Financing Commission.

FOR FURTHER INFORMATION CONTACT: John V. Wells, Chief Economist, U.S. Department of Transportation, (202) 366-9224, jack.wells@dot.gov.

SUPPLEMENTARY INFORMATION: By Federal Register Notice dated March 12, 2007, and in accordance with the requirements of the Federal Advisory Committee Act (“FACA”) (5 U.S.C. App. 2) and the Safe, Accountable, Flexible, Efficient Transportation Equity Act: A Legacy for Users (“SAFETEA-LU”) (Pub. L. 109-59, 119 Stat. 1144), the U.S. Department of Transportation (the “Department”) issued a notice of intent to form the National Surface Transportation Infrastructure Financing Commission (the “Financing Commission”). Section 11142(a) of SAFETEA-LU established the National Surface Transportation Infrastructure Financing Commission and charged it with analyzing the future highway and transit needs and the finances of the Highway Trust Fund and with making recommendations regarding alternative approaches to financing transportation infrastructure.

Notice of Meeting Location and Time

The Commissioners have agreed to hold their fourth, fifth and sixth meetings from 8:30 a.m. to 4 p.m. on Wednesday, September 05, 2007; Thursday, October 18, 2007; and Thursday, November 15, 2007, respectively. All meetings will be open to the public and are scheduled to take place at the Department's headquarters building, located at 1200 New Jersey Avenue, SE., Washington, DC, 20590.

If you need accommodations because of a disability or require additional information to attend these meetings, please contact Robert Mariner in the office of the Assistant Secretary for Transportation Policy via e-mail at robert.mariner@dot.gov, or by phone at (202) 493-0064.

Issued on this 15th day of August, 2007.
John V. Wells,
Chief Economist, U.S. Department of Transportation, Designated Federal Official.

[FR Doc. E7-16480 Filed 8-21-07; 8:45 am]

BILLING CODE 4910-9X-P